DEPARTMENT OF JUSTICE

Notice of Lodging of Proposed Consent Decree Under the Comprehensive Environmental Response, Compensation and Liability Act (CERCLA)

On June 16, 2015, the Department of Justice lodged a proposed Consent Decree with the United States District Court for the District of Arizona in the lawsuit entitled United States v. Burr-Brown Corporation (now Texas Instruments Tucson Corporation), Civil Action No. 89-594-TUC-RMB. On the same date, the State of Arizona lodged the same proposed Consent Decree with the United States District Court for the District of Arizona in the lawsuit entitled State of Arizona v. Texas Instruments Tucson Corporation, Civil Action No. 4:15-cv-00257-DCB. The United States has filed a motion to consolidate the two actions, and the State of Arizona and Texas Instruments Tucson Corporation (“TI”) have consented to that motion.

TI is working under an existing consent decree, entered in 1990 in Civil Action No. 89-594-TUC-RMB (“1990 Decree”), to perform a CERCLA response action to address contaminated groundwater on part of the Tucson International Airport Authority Superfund Site (“TIAA Site”) in Tucson, Arizona. The TIAA Site includes the Tucson International Airport, Air Force Plant 44, and several other adjacent areas. The proposed Consent Decree addresses only the TI portion of Area “B” of the TIAA Site (“Project Area”). Other areas of the TIAA Site are being addressed under separate federal facility agreements, consent decrees and fund-lead remedial actions. The Project Area was operated by TI's predecessor-in-interest, Burr-Brown Corporation. Operations included microchip manufacturing and involved chemical storage and disposal. In 2013, TI sold the Project Area to HSL TI Properties, which does not use it for industrial purposes.

The 1990 Decree contains provisions that the parties would like to amend as TI begins to implement an amended Record of Decision (“Amended ROD”). At the same time, the Arizona Department of Environmental Quality (“ADEQ”) would like to resolve its claims under state law with TI, and to participate in oversight of the remedy.

The proposed Consent Decree, which would supersede the 1990 Decree, would implement the Amended ROD, add the State of Arizona as a party, and resolve its claims under state law. Under the Consent Decree, TI commits to perform the work set out in the Amended ROD, and to pay the United States its Response Costs and the State its State Future Response Costs, as those terms are defined in the Consent Decree. The Consent Decree contains covenants not the sue by the United States and the State for the performance of the Work and for recovery of Response Costs and State Future Response Costs, and by TI for all claims related to the Project Area and the Consent Decree. The Consent Decree provides TI with the standard contribution protection for “matters addressed” in the Consent Decree: Work, Response Costs, and State Future Response Costs.

The publication of this notice opens a period for public comment on the Consent Decree. Comments should be addressed to the Assistant Attorney General, Environment and Natural Resources Division, and should refer to United States v. Burr-Brown Corporation (now Texas Instruments Tucson Corporation, D.J. Ref. No. 90-11-3-369. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $47.00 (25 cents per page reproduction cost) payable to the United States Treasury. For a paper copy without the exhibits, the cost is $21.25.

Maureen Katz,
Assistant Section Chief, Environmental Enforcement Section, Environment and Natural Resources Division.

[FR Doc. 2015-15205 Filed 6-19-15; 8:45 am]

BILLING CODE 4410-15-P